DEPARTMENT OF ENERGY

Federal Energy Regulatory Commission

Combined Notice of Filings #1

Take notice that the Commission received the following electric corporate filings:

Docket Numbers: EC15-37-000.

Applicants: Wildcat Wind Farm I, LLC, Enbridge, Inc.

Description: Application For Authorization Under Section 203 of the Federal Power Act, Requests For Waivers of Filing Requirements, Expedited Review And Confidential Treatment of Wildcat Wind Farm I, LLC and Enbridge, Inc.

Filed Date: 11/26/14.

Accession Number: 20141126-5314.

Comments Due: 5 p.m. ET 12/17/14.

Docket Numbers: EC15-39-000.

Applicants: Palo Duro Wind Energy, LLC, Palo Duro Wind Interconnection Services.

Description: Application for Authorization Under Section 203 of the Federal Power Act and Request for Expedited Action of Palo Duro Wind Energy, LLC, et al.

Filed Date: 11/26/14.

Accession Number: 20141126-5318.

Comments Due: 5 p.m. ET 12/17/14.

Docket Numbers: EC15-40-000.

Applicants: Lakeside Energy LLC, Lakeside Generation LLC, Lakeside New York LLC, Lakeside Hazleton LLC, Lakeside Beaver Falls LLC, Lakeside Syracuse LLC, Hazleton Generation LLC, NEP Holdco 1, L.L.C.

Description: Joint Application for Authorization Under Section 203 of the Federal Power Act and Requests for Waiver of Filing Requirements, Expedited Consideration and Confidential Treatment of Lakeside Energy LLC, et al.

Filed Date: 11/26/14.

Accession Number: 20141126-5323.

Comments Due: 5 p.m. ET 12/17/14.

Take notice that the Commission received the following electric rate filings:

Docket Numbers: ER13-77-006.

Applicants: Tucson Electric Power Company.

Description: Compliance filing per 35: Errata Amendment to OATT Order No. 1000 Compliance Filing (November 2014) to be effective 1/1/2015.

Filed Date: 11/26/14.

Accession Number: 20141126-5260.

Comments Due: 5 p.m. ET 12/17/14.

Docket Numbers: ER13-78-006.

Applicants: UNS Electric, Inc.

Description: Compliance filing per 35: Errata Amendment to OATT Order No. 1000 Compliance Filing (November 2014) to be effective 1/1/2015.

Filed Date: 11/26/14.

Accession Number: 20141126-5261.

Comments Due: 5 p.m. ET 12/17/14.

Docket Numbers: ER15-190-001.

Applicants: Duke Energy Renewable Services, LLC.

Description: Supplement to November 21, 2014 Duke Energy Renewable Services, LLC tariff filing.

Filed Date: 11/26/14.

Accession Number: 20141126-5322.

Comments Due: 5 p.m. ET 12/17/14.

Docket Numbers: ER15-509-000.

Applicants: Southwest Power Pool, Inc.

Description: § 205(d) rate filing per 35.13(a)(2)(iii): Order No. 1000 Revisions in Attachment Y to be effective 1/15/2015.

Filed Date: 11/26/14.

Accession Number: 20141126-5257.

Comments Due: 5 p.m. ET 12/17/14.

Docket Numbers: ER15-510-000.

Applicants: Pacific Gas and Electric Company.

Description: § 205(d) rate filing per 35.13(a)(2)(iii): Western IA November 2014 Biannual Filing to be effective 2/1/2015.

Filed Date: 11/26/14.

Accession Number: 20141126-5258.

Comments Due: 5 p.m. ET 12/17/14.

Docket Numbers: ER15-511-000.

Applicants: NorthWestern Corporation.

Description: Compliance filing per 35: Request for Waiver of v003 NAESB Standards & Order 676-H Compliance Filing (SD) to be effective 2/2/2015.

Filed Date: 11/26/14.

Accession Number: 20141126-5259.

Comments Due: 5 p.m. ET 12/17/14.

Docket Numbers: ER15-512-000.

Applicants: Pacific Gas and Electric Company.

Description: § 205(d) rate filing per 35.13(a)(2)(iii): Western WDT November 2014 Biannual Filing to be effective 2/1/2015.

Filed Date: 11/26/14.

Accession Number: 20141126-5262.

Comments Due: 5 p.m. ET 12/17/14.

Docket Numbers: ER15-513-000.

Applicants: New England Power Pool Participants Committee.

Description: § 205(d) rate filing per 35.13(a)(2)(iii): December 2014 Membership Filing to be effective 11/1/2014.

Filed Date: 11/28/14.

Accession Number: 20141128-5002.

Comments Due: 5 p.m. ET 12/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2014.
Nathaniel J. Davis, Sr.,
Deputy Secretary.

[FR Doc. 2014-28860 Filed 12-9-14; 8:45 am]

BILLING CODE 6717-01-P